DEPARTMENT OF LABOR

Employment and Training Administration

[TA-W-81,475]

Huntington Foam LLC, Fort Smith, AR; Notice of Affirmative Determination Regarding Application for Reconsideration

By application dated May 21, 2012, the State Workforce Office requested administrative reconsideration of the negative determination regarding workers' eligibility to apply for Trade Adjustment Assistance (TAA) applicable to workers and former workers of the subject firm. The negative determination was issued on May 16, 2012. Workers at the subject firm were engaged in activities related to the production of expandable polystyrene.

The initial investigation resulted in a negative determination based on the findings that the subject firm did not shift production of polystyrene to a foreign country, nor did the subject firm or its customers report an increased reliance of imports of articles like or directly competitive with polystyrene.

The State has asserted that the subject firm supplied a component part to a firm that employed a worker group eligible to apply for TAA.

The Department has carefully reviewed the request for reconsideration and the existing record and will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 8th day of August, 2012.
Del Min Amy Chen
Certifying Officer, Office of Trade Adjustment Assistance.

[FR Doc. 2012-20766 Filed 8-22-12; 8:45 am]

BILLING CODE 4510-FN-P